DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of April 2005.

In order for an affirmative determination to be made and a certification of eligibility to apply for directly-impacted (primary) worker adjustment assistance to be issued, each of the group eligibility requirements of Section 222(a) of the Act must be met.

I. Section (a) (2) (A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a) (2) (B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-56,669; Positive Systems, Inc., Kalispell, MT.

TA-W-56,702; Fairbanks Morse Engine, Beloit, WI.

TA-W-56,862; Topcon Medical Systems, Inc., Formerly Known as Topcon Omni Systems, Inc., a subsidiary of Topcon America Corp., Norristown, PA.

TA-W-56,707; Kopin Optical, Inc., Subsidiary of Kopin Corporation, Taunton, MA.

TA-W-56,714; Briess Industries, Inc., Waterloo Malting Div., Waterloo, WI.

TA-W-56,858; Snap-On Tools, Inc., Mt. Carmel, IL.

TA-W-56,826; North American Communications, including leased workers of Spherion and Labor Ready, Ducansville, PA.

TA-W-56,674; CTS Corporation, CTS Communications Components, Inc., including on-site leased workers of Excel and Spherion, Albuquerque, NM.

TA-W-56,695; Tyco Electronics, Printed Circuit Group, Stafford Div., Stafford Springs, CT.

TA-W-56,842; KUS, Inc., a/k/a Karl Schmidt Unisia, Inc., Fort Wayne, IN.

TA-W-56,677; Wyeth Pharmaceutical, including leased workers of Kelly Services and Judge Technical Services, West Chester, PA.

TA-W-56,615; Detroit Stoker Co., Monroe, MI.

TA-W-56,622; Temple-Inland, Raleigh Plant, Raleigh, NC.

TA-W-56,659; Healthco International, LLC, Dixville Notch, NH.

TA-W-56,753; Spartech Polycom, a division of The Spartech Corporation, Conneaut, OH.

TA-W-56,871; Block Corporation, Amory, MS.

TA-W-56,793; Council Cup Industries, Inc., d/b/a K & H Packaging Supplies, Wapwallopen, PA.

The investigation revealed that criterion (a)(2)(A)(I.A) and (a)(2)(B)(II.A) (no employment decline) has not been met.

TA-W-56,747; Compx Security Products, Inc., Compx National, including leased workers of Phillips Staffing, Maulding, SC.

TA-W-57,000; Tobacco Valley Lumber, Kalispell, MT.

TA-W-56,742; Salvavida USA, Inc., Folly Beach, SC.

The workers firm does not produce an article as required for certification under Section 222 of the Trade Act of 1974.

TA-W-56,840; PAM Trading Corp., Hosiery Div., Greensboro, NC.

TA-W-56,700; CIBC World Markets, Inc., Atlanta Client Support Centre, a subsidiary of Canadian Imperial Bank of Commerce, Atlanta, GA.

TA-W-56,699; Workers of Bartech Technical Services, LLC, Employed at Delphi CSE Test Center, Warren, OH.

TA-W-56,946; UITS Support Center, a division of NBC Universal, Universal City, CA.

TA-W-56,868; River Valley Contract Manufacturing, Inc., Menifee, AR.

TA-W-56,768; Magnivision, subsidiary of AAI Foster Grant, Inc., Miramar, FL.

TA-W-56,876; American Wood Moulding, LLC, El Paso, TX.

TA-W-56,690; Qualex, Inc., subsidiary of Eastman Kodak, Kodak Service and Support, Telemaintenance Call Center, Durham, NC.

TA-W-56,729; Agilent Technologies, Semiconductor Worldwide Business Administration Team, Fort Collins, CO.

TA-W-56,772; AT&T Corp., MDNS Service Delivery Div., Schaumberg, IL.

TA-W-56,790; Electronic Measuring Devices, Inc., Budd Lake, NJ.

TA-W-56,736 & A; Ardmore Blouses, Inc., Pen Argyl, PA and Wind Gap, PA.

TA-W-56,635; Green Acre Creation, Inc., Long Island City, NY.

TA-W-56,663; Sohnen Enterprises, Inc., Santa Fe Springs, CA.

TA-W-56,643; America Online, Inc., Community Action Team, a subsidiary of Time Warner, Inc., Oklahoma City, OK.

TA-W-56,679; Beverly Enterprises, Inc., Information Services Support Center, Fort Smith, AR.

TA-W-56,733; Cardiac Care, Transcription Department, Cottonwood, AZ.

TA-W-56,791, Vercuity Solutions, Inc., d/b/a MSS Group, Inc., a subsidiary of TEM Holdings Corporation, Gainesville, GA.

TA-W-56,748; Amdocs Group Companies, Amdocs IT Services, LLC, subsidiary of Amdocs Group Companies, Working on-site at SBC, Anaheim, CA.

TA-W-56,854; Mettler-Toledo, Inc., Spartanburg Product Organization, Inman, SC.

TA-W-56,929; Owens & Bray, Inc., Kalispell, MT.

TA-W-56,829; 3Com Corporation, Marlborough, MA.

TA-W-56,726; The Bob Timberlake Collection, Lexington, NC.

TA-W-56,977; Telemarketing Concepts, Inc., a subsidiary of SVI, Jacksonville, NC.

TA-W-56,892; GE Engine Services-Dallas LP, Dallas, TX.

TA-W-56,798; UniCare, a subsidiary of WellPoint Health Networks, Inc., Charlestown, MA.

TA-W-56,824; James Morton, Inc., currently known as Bessey Tools, Inc., Batavia, NY.

TA-W-56,781; AT&T Corp., AT&T Classic Services Consumer Services Division, Mesa, AZ.

The investigation revealed that criterion (a)(2)(A)(I.C) (Increased imports and (a)(2)(B)(II.C) (has shifted production to a foreign country) have not been met.

TA-W-56,698; Domtar Industries, Inc., Baileyville, ME.

The investigation revealed that criterion (a)(2)(A)(I.A) (No employment decline) and (a) (2)(B)(II.C) (has shifted production to a foreign country) have not been met.

TA-W-56,815; Hewlett Packard Caribe BV, ISB-Puerto Rico Div., including on-site leased workers of Manpower and Chimes, Inc., Aguadilla, PR.

TA-W-56,763K & M; Quaker Fabric Corp. of Fall River, Plant N-722, a subsidiary of Quaker Fabric Corp., Fall River, MA and Plant Q-733, a subsidiary of Quaker Fabric Corp., Fall River, MA.

The investigation revealed that criteria (2) has not been met. The workers firm (or subdivision) is not a supplier or downstream producer to trade-affected companies.

TA-W-56,766; Challenger Contract Manufacturing, Inc., Dandridge, TN.

The investigation revealed that criteria (3)(A) has not been met. The workers' firm (or subdivision) is not a supplier and the component parts it supplied to trade-affected companies did not account for at leased 20 percent of the production or sales of the workers' firm.

TA-W-56,765; GKN Sinter Metals, Gallipolis, OH.

Affirmative Determinations for Worker Adjustment Assistance

The following certifications have been issued; the date following the company name and location of each determination references the impact date for all workers of such determination.

The following certifications have been issued. The requirements of (a)(2)(A) (increased imports) of Section 222 have been met.

TA-W-56,792; Day & Zimmermann Security Services, employed at Occidental Chemical Corp., Pottstown, PA: March 11, 2004.

TA-W-56,706; Plus Mark, Inc., including on-site leased workers of Staffmark, Inc., Franklin, TN: February 25, 2004.

TA-W-56,727; Stinson Seafoods, division of Bumble Bee Seafoods, LLC, including on-site leased workers of Lao Temporary Services, Inc., Bath, Maine: March 4, 2004.

TA-W-56,571; Graham Packaging Co., Personal Care and Specialty Division, La Mirada, CA: February 10, 2004.

TA-W-56,888; Nelson Hosiery, Inc., a subsidiary of Prewett Associated Mills, Inc., Fort Payne, AL: March 28, 2004.

TA-W-56,950; C & J Cutting, Inc., Fall River, MA: April 13, 2004.

TA-W-56,763; Quaker Fabric Corp. of Fall River, Plant A/B-700, a subsidiary of Quaker Fabric Corporation, Fall River, MA, A; Plant C-710 (Excluding Design Group), a subsidiary of Quaker Fabric Corp., Fall River, MA, C; Plant D-730, a subsidiary of Quaker Fabric Corp., Fall River, MA, D; Plant E-735, a subsidiary of Quaker Fabric Corp., Fall River, MA, F; Plant I-739, a subsidiary of Quaker Fabric Corp., Somerset, MA, G; Plant J-720, a subsidiary of Quaker Fabric Corp., Fall River, MA, H; Plant K-736, a subsidiary of Quaker Fabric Corp., Brockton, MA, I; Plant L-734, a subsidiary of Quaker Fabric Corp., Fall River, MA, J; Plant M-721, a subsidiary of Quaker Fabric Corp., Fall River, MA: March 9, 2004.

TA-W-56,722; Allied Mold and Die Corp., Fontana, CA: February 22, 2004.

TA-W-56,665; Casual Lamps of California, Inc., Gardena, CA: February 25, 2004.

TA-W-56,860; Four A Enterprises, Inc., Williamsville, MO: March 24, 2004.

TA-W-56,723; Brookwood Furniture Co., Bruce, MS: March 8, 2004.

TA-W-56,671; Transportation Solutions, Inc., working on-site at R.J. Reynolds Tobacco Co., Macon, GA: March 2, 2004.

TA-W-56,813 & A; Bernhard Furniture Co., Plant 1B, Lenoir, NC and Corp. Office and Central Support for Plant #2, Lenoir, NC: March 21, 2004.

TA-W-56,658; Pacific Coast Feather Co., Henderson Plant, Henderson, NC: February 21, 2004.

TA-W-56,718; IH Apparel Group, LLC, formerly known as Isaac Hazan and Company, Inc., New York, NY: February 23, 2004.

TA-W-56,847; Nexans Magnet Wire USA, Inc., a div. of Nexan's USA, Inc., LaGrange, KY: March 14, 2004.

TA-W-56,821; Dott Industries, Inc., Deckersville, MI: March 22, 2004.

TA-W-56,874; Valley Fashion Apparel, LLC, Oneonta, NY: April 1, 2004.

TA-W-56,926; Flynn LLC, Central City Div., Central City, KY: April 7, 2004.

TA-W-56,835; Therm-O-Disc, Inc., including leased workers of Manpower, Mansfield, OH: March 16, 2004.

TA-W-56,811; Valdese Manufacturing Co., a subsidiary of Meridian Industries, Inc., Valdese, NC: March 17, 2004.

TA-W-56,720; Automatic Welding, Inc., including leased workers of Time Industrial, Spherion Staffing, and Premier Staffing, Ashland, OH: February 17, 2004.

TA-W-56,715; International Paper, Industrial Packaging Div., Sharpsburgh, PA and Eighty Four, PA: February 17, 2004.

TA-W-56,775; D.R. Kenyon and Sons, Inc., Bridgewater, NJ: February 28, 2004.

TA-W-56,730; Heritage Sportswear, LLC d/b/a Joan Vass, USA, Marion, SC: March 8, 2004.

TA-W-56,719; Donegal Industries, Inc., a div. of Candlesticks, Inc., Mount Joy, PA: February 22, 2004.

TA-W-56,716; Northern Steel Castings, Inc., Kenosha, WI: March 7, 2004.

TA-W-56,712; Dallco Industries, Inc., York Complex, York, PA: February 21, 2004.

TA-W-56,600; Tango Pacific, Portland, OR: February 17, 2004.

TA-W-56,832; SAS Ornamental, Inc., d/b/a The 807 Company, El Paso, TX: March 7, 2004.

TA-W-56,764; Whirley Industries, Inc., including on-site leased workers of Kelly Services, Express Personnel Services, Adecco, Warren, PA: February 25, 2004.

TA-W-56,760; TRI Cast, Inc., Spring Lake, MI: February 18, 2004.

TA-W-56,740; Mohawk Valley Textile Printing, a/k/a Twin Prints LLC, formerly known as TR Acquistion LLC, d/b/a Twin Rivers Textile Printing: Schenectady, NY: February 28, 2004.

TA-W-56,697; B Machine Products, Inc., Parkersburg, WV: February 24, 2004.

TA-W-56,705; Marlatex Corp., including on-site leased workers of Harris Staffing, Belmont, NC: March 7, 2004.

TA-W-56,587; Jeanerette Sugar Company, Inc., Jeanerette, LA: February 15, 2004.

TA-W-56,922; Anthony & Company, Inc., Escanaba, MI: April 5, 2004.

TA-W-56,881; James Jet Corp., d/b/a Wright Scaling, working on-site at Owens and Hurst Lumber Co., Inc., Eureka, MT: March 18, 2004.

TA-W-56,814; Omnimount Systems, Inc., a subsidiary of Nortek, Inc., Phoenix, AZ: March 22, 2004.

TA-W-56,686; McDade Apparel, LLC, a subsidiary of McDade Apparel, Warrenton, NC: March 3, 2004.

TA-W-56,668; Agrium U.S., Inc., Kenai Nitrogen Operations, Kenai, AK: March 2, 2004.

TA-W-56,830; Jarvis Caster Co., including leased workers of AID Temporary, Harrisburg, AR: March 22, 2004.

TA-W-56,804; T.S. Designs, Inc., Burlington, NC: March 7, 2004.

TA-W-56,796; Tyco Electronics, including on-site leased workers of Manpower, Sterling, IL: March 17, 2004.

TA-W-56,759; Felix Schoeller Technical Papers, Inc., including on-site leased workers of Adecco, Pulaski, NY: May 7, 2004.

TA-W-56,746; Tama Manufacturing Co., Inc., including on-site leased workers of Performance Personnel, Allentown, PA: May 4, 2004.

The following certifications have been issued. The requirements of (a)(2)(B) (shift in production) of section 222 have been met.

TA-W-56,848; Emmi, Inc., d/b/a Universal Fine Jewelry, Los Angeles, CA: March 21, 2004.

TA-W-56,731 & A; Creo Americas, Inc., Irvine, CA and Woodland Hills, CA: March 9, 2004.

TA-W-56,940; Buffalo Plastics, Inc., d/b/a Andover Industries, including leased on-site workers from Career Concepts, M-Ploy and Infinity Resources, Meadville, PA: April 8, 2004.

TA-W-56,788; Pentair, Inc., Water, Spa and Bath Division, including on-site leased workers of Volt, Personnel Plus and Apple One, South El Monte, CA: March 21, 2004.

TA-W-56,940; Buffalo Plastics, Inc., d/b/a Andover Industries, including leased on-site workers from Career Concepts, M-Ploy and Infinity Resources, Meadville, PA: April 8, 2004.

TA-W-56,944; Johnson Controls, Inc., Controls SP Division, Goshen, IN: April 6, 2004.

TA-W-56,919; M&B Metal Products Company, Inc., South Hill Div., including leased workers of Penmac Personnel Services, South Hill, VA: March 31, 2004.

TA-W-56,762; Eldorado Cap Company, Eldorado, IL: March 15, 2004.

TA-W-56,749; Hansen International, Inc., Visor Department, including on-site leased workers of Automation Temporary Services, Inc., Lexington, SC: March 10, 2004.

TA-W-56,653; Mercury Marine, subsidiary of Brunswick Corporation, Technology Delivery Department, Fond du Lac, WI: February 25, 2004.

TA-W-56,704; Lockheed Martin Aeronautics Co., Fort Worth Div., a subsidiary of Lockheed Martin Corp., Fort Worth, TX: March 7, 2004.

TA-W-56,754; Selkirk LLC, Coleman, TX: March 10, 2004.

TA-W-56,846; Ametek National Controls Corp., Dixson Div., including leased on-site workers from Manpower, Kelly Services and Benchmark, West Chicago, IL: March 25, 2004.

TA-W-56,638; Valspar Galax, a subsidiary of Valspar Global Wood Coatings, employed at Vaughan Furniture, Galax, VA: February 17, 2004.

TA-W-56,864; The Chamberlain Group, Inc., Commercial Products Division, Ronkonkoma, NY: March 29, 2004.

TA-W-56,967; VWR International, Workers at Sumco Oregon Corporation, Salem North Division, a subsidiary of Sumco USA, Salem, OR: March 29, 2004.

TA-W-56,774; Automatic Timing and Control, Inc., Lancaster, PA: February 10, 2004.

TA-W-56,895; Ocean Star Manufacturing, Fullerton, CA: April 7, 2004.

TA-W-56,794; Intersil Communications, Inc., Palm Bay, FL: March 7, 2004.

TA-W-56,802; Molex, Inc., New England Operations, Gilford, NH: March 23, 2004.

TA-W-56,661; Johnston Textiles, Inc., Marketing and Sales Division, Valley, AL: March 1, 2004.

TA-W-56,789; Jersey Mold, Inc., a subsidiary of Wentworth Technologies, Millville, NJ: March 17, 2004.

TA-W-56,861; Federal-Mogul Corp., Powertrain Bearings Div., Blacksburg, VA: April 24, 2005.

TA-W-56,856; Thomas & Betts Corp., HVAC Div., Mercer, PA: March 22, 2004.

TA-W-56,841; Robin Lynn Mills, Plant #1, Fort Paine, AL: March 23, 2004.

TA-W-56,921; Elkbrand Manufacturing Co., Inc., Cadiz, KY and Hopkinsville, KY: March 31, 2004.

TA-W-56,933; Michael Anthony Jewelers, Inc., including on-site leased workers from Titan Agency Staffing, Mt. Vernon, NY: March 29, 2004.

TA-W-56,906; Celestica Corporation, Americas EMS Div., including on-site leased workers of Adecco, Fort Collins, CO: April 9, 2005.

TA-W-57,001; R. Twining & Co., Ltd, including on-site leased workers of TRC Staffing Services, Greensboro, NC: April 15, 2004.

TA-W-57,017; Carharrt, Inc., Marrowbone, KY: April 20, 2004.

TA-W-56,761; Westek Electronics, Inc., including on-site leased workers of Volt, Santa Cruz, CA: March 15, 2004.

TA-W-56,942; Stoneridge, Inc., including on-site leased workers of The Job Connection, El Paso, TX: April 7, 2004.

TA-W-56,818; Hadco Corp., d/b/a Hadco Printed Circuits, Printed Circuit Board Div., a div. of Sanmina-SCI, including leased workers of Staffmark, Phoenix, AZ: March 21, 2004.

TA-W-56,889; Metso Minerals Industries, Inc., Keokuk, IA: April 5, 2004.

TA-W-56,882; Carlisle Power Transmission, Red Wing Plant, Red Wing, MN: March 31, 2004.

TA-W-56,878; York Capacitor Corp., including on-site leased workers from Kelly Services, Winooski, VT: March 29, 2004.

TA-W-56,857; L.A.T Sportswear, LLC, Roberta, GA: March 29, 2004.

TA-W-56,833; Thermotech Company, Hopkins, MN: March 24, 2004.

TA-W-56,737; Karibe, Inc., West Pittston, PA: March 9, 2004.

TA-W-56,735; GN Hearing Care Corporation, d/b/a Beltone, Corporate Support Div., Chicago, IL: February 21, 2004.

TA-W-56,728; Alcan Packaging, including leased workers of HTSS, Allied Personnel Services, Aerotek, On Assignment (Lab Support), Barton Associates, Synerfac Technical Staffing, Remedy Intelligent Staffing, Accountemps and Office Team, Bethlehem, PA: March 9, 2004.

TA-W-56,803; Silvered Electronic Mica Company, Inc., Willimantic, CT: April 12, 2005.

TA-W-56,770; Charleston Hosiery, Inc., Fort Payne, AL: March 7, 2004.

TA-W-56,767; Celestica USA, Inc., Salem—EMS, including leased workers of Adecco, Salem, NH: March 14, 2004.

TA-W-56,738; Radisys Corporation, including leased workers of Employment Trends, Hillsboro, OR: March 10, 2004.

TA-W-56911; Joyner Manufacturing, Louisburg, NC: March 30, 2004.

TA-W-56,696; Hewlett Packard Company, Imaging & Printing Group-Technology Platforms Div., including on-site leased workers of Chimes, Inc., Corvallis, OR: March 7, 2004.

TA-W-56,713; Seagate Technology, LLC, Recording Head Operations, Bloomington, MN: March 8, 2004.

TA-W-56,784; Progressive Service Die Company, New Kingstown, PA: March 16, 2004.

TA-W-56,757; Celestica, including on-site leased workers from Adecco, Morrisville, NC: March 4, 2004.

TA-W-56,837; Calley & Currier Co., Patten, ME: March 21, 2004.

TA-W-56,734; Penn Fishing Tackle Manufacturing Co., Hegins Location, Hegins, PA: March 7, 2004.

TA-W-56,799; BASF Corp., South Brunswick Plant, Jamesburg, NJ: March 15, 2004.

TA-W-56,777 & A; Boston Scientific, Interventional Technologies Div. (IVT), including on-site leased workers of Barrett Business Services, Inc., Apple One Employment Services, Murrieta, CA and San Diego, CA: March 16, 2004.

TA-W-56,859; Ametek, Inc., Dixson Div., including leased workers of SOS Staffing Services, Grand Junction, CO: April 12, 2005.

TA-W-56,724 & A,B,C; American Pad and Paper, LLC, Holyoke, MA, AMPAD Distribution Center, Westfield, MA, AMPAD Distribution Center, Mattoon, IL, Morristown, TN: March 8, 2004.

TA-W-56,724D; American Pad and Paper, LLC, West Valley City, UT: Workers are covered by an active certification that was issued on June 16, 2004 (TA-W-54,634), which remains in effect until June 16, 2006, Consequently, further investigation of this facility would service no purpose and the investigation of the facility has been terminated.

The following certifications have been issued. The requirement of upstream supplier to a trade certified primary firm has been met.

TA-W-56,872; EMF Corporation, Angola Electric Products Div., Angola, IN: March 24, 2004.

Negative Determinations for Alternative Trade Adjustment Assistance

In order for the Division of Trade Adjustment Assistance to issued a certification of eligibility to apply for Alternative Trade Adjustment Assistance (AtAA) for older workers, the group eligibility requirements of Section 246(a)(3)(A)(ii) of the Trade Act must be met.

In the following cases, it has been determined that the requirements of Section 246(a)(3)(ii) have not been met for the reasons specified.

The Department as determined that criterion (2) of Section 246 has not been met. Workers at the firm possess skills that are easily transferable.

TA-W-56,788; Pentair, Inc., Water, Spa and Bath Div., including on-site leased workers of Volt, Personnel Plus and Apple One, South El Monte, CA.

TA-W-53,918; BMC Software, Inc., Houston, TX.

TA-W-56,940; Buffalo Plastics, Inc., d/b/a Andover Industries, including leased on-site workers from Career Concepts, M-Ploy and Infinity Resources, Meadville, PA.

TA-W-56,944; Johnson Controls, Inc., Controls SP Div., Goshen, IN.

TA-W-56,919; M&B Metal Products Co., Inc., South Hill Div., including leased workers of Penmac Personnel Services, South Hill, VA.

TA-W-56,848; Emmi, Inc., d/b/a Universal Fine Jewelry, Los Angeles, CA.

TA-W-56,762; Eldorado Cap Company, Eldorado, IL.

TA-W-56,792; Day & Zimmermann Security Services, employed at Occidental Chemical Corp., Pottstown, PA.

TA-W-56,706; Plus Mark, Inc., including on-site leased workers of Staffmark, Inc., Franklin, TN.

TA-W-56,749; Hansen International, Inc., Visor Department, including on-site leased workers of Automation Temporary Services, Inc., Lexington, SC.

TA-W-56,727; Stinson Seafoods, division of Bumble Bee Seafoods, LLC, including on-site leased workers of Lao Temporary Services, Inc., Bath, ME.

TA-W-56,653; Mercury Marine, subsidiary of Brunswick Corp., Technology Delivery Department, Fond du Lac, WI.

TA-W-56,571; Graham Packaging Co., Personal Care and Specialty Div., La Mirada, CA.

TA-W-56,704; Lockheed Martin Aeronautics Co., Fort Worth Div., a subsidiary of Lockheed Martin Corporation, Fort Worth, TX.

TA-W-56,754; Selkirk, LLC, Coleman, TX.

TA-W-56,846; Ametek National Controls Corp., Dixson Division, including leased on-site workers from Manpower, Kelly Services and Benchmark, West Chicago, IL.

The Department as determined that criterion (1) of Section 246 has not been met. Workers at the firm are 50 years of age or older.

TA-W-56,638; Valspar Galax, a subsidiary of Valspar Global Wood Coatings, employed at Vaughan Furniture, Galax, VA.

TA-W-56,731 & A; Creo Americas, Inc., Irvine, CA and Woodland Hills, CA.

Since the workers are denied eligibility to apply for TAA, the workers cannot be certified eligible for ATAA.

TA-W-56,714; Briess Industries, Inc., Waterloo Malting Div., Waterloo, WI.

TA-W-56,858; Snap-On Tools, Inc., Mt. Carmel, IL.

TA-W-56,826; North American Communications, including leased workers of Spherion and Labor Ready, Duncansville, PA.

TA-W-56,674; CTS Corp., CTS Communications Components, Inc., including on-site leased workers of Excel and Spherion, Albuquerque, NM.

TA-W-56,695A; Tyco Electronics, Printed Circuit Group, Stafford Div., Stafford Springs, CT.

TA-W-56,842; KUS, Inc., a/k/a Karl Schmidt Unisia, Inc., Fort Wayne, IN.

TA-W-56,677; Wyeth Pharmaceutical, including leased workers of Kelly Services and Judge Technical Services, West Chester, PA.

TA-W-56,615; Detroit Stoker Co., Monroe, MI.

TA-W-56,622; Temple-Inland, Raleigh Plant, Raleigh, NC.

TA-W-56,659; Healthco International, LLC, Dixville Notch, NH.

TA-W-56,753; Spartech Polycom, a Div. of The Spartech Corp., Conneaut, OH.

TA-W-56,871; Block Corporation, Amory, MS.

TA-W-56,793; Council Cup Industries, Inc., d/b/a K & H Packaging Supplies, Wapwallopen, PA.

TA-W-56,763K & M; Quaker Fabric Corp. of Fall River, Plant N-722, a subsidiary of Quaker Fabric Corp., Fall River, MA and Plant Q-733, a subsidiary of Quaker Fabric Corp., Fall River, MA.

TA-W-56,690; Qualex, Inc., subsidiary of Eastman Kodak, Kodak Service and Support, Telemaintenance Call Center, Durham, NC.

TA-W-56,876; American Wood Moulding, LLC, El Paso, TX.

TA-W-56,729; Agilent Technologies, Semiconductor Worldwide Business Administration Team, Fort Collins, CO.

TA-W-56,772; AT&T Corporation, MDNS Service Delivery Division, Schaumberg, IL.

TA-W-56,790; Electronic Measuring Devices, Inc., Budd Lake, NJ.

TA-W-56,736 & A; Ardmore Blouses, Inc., Pen Argyl, PA and Wind Gap, PA.

TA-W-56,635; Green Acre Creation, Inc., Long Island City, NY.

TA-W-56,663; Sohnen Enterprises, Inc., Santa Fe Springs, CA.

TA-W-56,643; America Online, Inc., Community Action Team, a subsidiary of Time Warner, Inc., Oklahoma City, OK.

TA-W-56,679; Beverly Enterprises, Inc., Information Services Support Center, Fort Smith, AR.

TA-W-56,733; Cardiac Care, Transcription Department, Cottonwood, AZ.

TA-W-56,791; Vercuity Solutions, Inc., d/b/a MSS Group, Inc., a subsidiary of TEM Holding Corporation, Gainesville, GA.

TA-W-56,748; Amdocs, Inc., Amdocs IT Services, LLC, subsidiary of Amdocs Group Companies, working on-site at SBC, Anaheim, CA.

TA-W-56,854; Mettler-Toledo, Inc., Spartanburg Product Organization, Inman, SC.

TA-W-56,929; Owens & Bray, Inc., Kalispell, MT.

TA-W-56,829; 3Com Corporation, Marlborough, MA.

TA-W-56,726; The Bob Timberlake Collection, Lexington, NC.

TA-W-56,977; Telemarketing Concepts, Inc., a subsidiary of SVI, Jacksonville, NC.

TA-W-56,892; GE Engine Services—Dallas LP, Dallas, TX.

TA-W-56,798; UniCare, a subsidiary of WellPoint Health Networks, Inc., Charlestown, MA.

TA-W-56,824; James Morton, Inc., currently known as Bessey Tools, Inc., Batavia, NY.

TA-W-56,781; AT&T Corp., AT&T Classic Services, Consumer Services Div., Mesa, AZ.

TA-W-57,000; Tobacco Valley Lumber, Kalispell, MT.

TA-W-56,742; Salvavida USA, Inc., Folly Beach, SC.

TA-W-56,698; Domtar Industries, Inc., Baileyville, ME.

TA-W-56,815; Hewlett Packard Caribe BV, ISB—Puerto Rico Division, including on-site leased workers of Manpower and Chimes, Inc., Aguadilla, PR.

TA-W-56,765; GKN Sinter Metals, Gallipolis, OH.

TA-W-56,766; Challenger Contract Manufacturing, Inc., Dandridge, TN.

Affirmative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-56,872; EMF Corp., Angola Electric Products Div., Angola, IN: March 24, 2004.

TA-W-56,847; Nexans Magnet Wire USA, Inc., a div. of Nexan's USA, Inc., LaGrange, KY: March 14, 2004.

TA-W-56,821; Dott Industries, Inc., Deckerville, MI: March 22, 2004.

TA-W-56,874; Valley Fashion Apparel, LLC, Oneonta, NY: April 1, 2004.

TA-W-56,926; Flynn LLC, Central City Division, Central City, KY: April 7, 2004.

TA-W-56,835; Therm-O-Disc, Inc., including leased workers of Manpower, Mansfield, OH: March 16, 2004.

TA-W-56,775; D.R. Kenyon and Sons, Inc., Bridgewater, NJ: February 28, 2004.

TA-W-56,811; Valdese Manufacturing Co., a subsidiary of Meridian Industries, Inc., Valdese, NC: March 17, 2004.

TA-W-56,720; Automatic Welding, Inc., including leased workers of Time Industrial, Spherion Staffing and Premier Staffing, Ashland, OH: February 17, 2004.

TA-W-56,715 & A; International Paper, Industrial Packaging Div., Sharpsburgh, PA and Eighty Four, PA: February 17, 2004.

TA-W-56,730; Heritage Sportswear, LLC, d/b/a Joan Vass, USA, Marion, SC: March 8, 2004.

TA-W-56,719; Donegal Industries, Inc., a div. of Candlesticks, Inc., Mount Joy, PA: February 22, 2004.

TA-W-56,716; Northern Steel Castings, Inc., Kenosha, WI: March 7, 2004.

TA-W-56,712; Dallco Industries, Inc., York Complex, York, PA: February 21, 2004.

TA-W-56,600; Tango Pacific, Portland, OR: February 17, 2004.

TA-W-56,832; SAS Ornamental, Inc., d/b/a The 807 Company, El Paso, TX: March 7, 2004.

TA-W-56,760; Tri Cast, Inc., Spring Lake, MI: February 18, 2004.

TA-W-56,764; Whirley Industries, Inc., including on-site leased workers of Kelly Services, Express Personnel Services, Adecco, Warren, PA: February 25, 2004.

TA-W-56,740; Mohawk Valley Textile Printing, a/k/a Twin Prints LLC, formerly known as TR Acquistion LLC, d/b/a Twin Rivers Textile Printing, Schenectady, NY: February 28, 2004.

TA-W-56,697; B Machine Products, Inc., Parkersburg, WV: February 24, 2004.

TA-W-56,705; Marltex Corp., including on-site leased workers of Harris Staffing, Belmont, NC: March 7, 2004.

TA-W-56,587; Jeanerette Sugar Co., Inc., Jeanerette, LA: February 15, 2004.

TA-W-56,922; Anthony & Company, Inc., Escanaba, MI: April 5, 2004.

TA-W-56,881; James Jet Corporation, d/b/a Wright Scaling, working on-site at Owens and Hurst Lumber Co., Inc., Eureka, MT: March 18, 2004.

TA-W-56,814; Omnimount Systems, Inc., a subsidiary of Nortek, Inc., Phoenix, AZ: March 22, 2004.

TA-W-56,686; McDade Apparel, LLC, a subsidiary of McDade Apparel, Warrenton, NC: March 3, 2004.

TA-W-56,668; Agrium U.S., Inc., Kenai Nitrogen Operations, Kenai, AK: March 2, 2004.

TA-W-56,830; Jarvis Caster Co., including leased workers of AID Temporary, Harrisburg, AR: March 22, 2004.

TA-W-56,804; T.S. Designs, Inc., Burlington, NC: March 7, 2004.

TA-W-56,789; Jersey Mold, Inc., a subsidiary of Wentworth Technologies, Millville, NJ: March 17, 2004.

TA-W-56,861; Federal-Mogul Corporation, Powertrain Bearings Div., Blacksburg, VA: April 24, 2005.

TA-W-56,856; Thomas & Betts Corporation, HVAC Division, Mercer, PA: March 22, 2004.

TA-W-56,841; Robin Lynn Mills, Plant #1, Fort Paine, AL: March 23, 2004.

TA-W-56,921 & A; Elkbrand Manufacturing Co., Inc., Cadiz, KY and Hopkinsville, KY: March 31, 2004.

TA-W-56,933; Michael Anthony Jewelers, Inc., including on-site leased workers from Titan Agency Staffing, Mt. Vernon, NY: March 29, 2004.

TA-W-56,906; Celestica Corporation, Americas EMS Division, including on-site leased workers of Adecco, Fort Collins, CO: April 9, 2005.

TA-W-57,017; Carharrt, Inc., Marrowbone, KY: April 20, 2004.

TA-W-57,001; R. Twining & Co., Ltd, including on-site leased workers of TRC Staffing Services, Greensboro, NC: April 15, 2004.

TA-W-56,761; Westek Electronics, Inc., including on-site leased workers of Volt, Santa Cruz, CA: March 15, 2004.

TA-W-56,942; Stoneridge, Inc., including on-site leased workers of The Job Connection, El Paso, TX: April 7, 2004.

TA-W-56,818; Hadco Corp., d/b/a/ Hadco Printed Circuits, Printed Circuit Board Div., a div. of Sanmina-SCI, including leased workers of Staff Mark, Phoenix, AZ: March 21, 2004.

TA-W-56,889; Metso Minerals Industries, Inc., Keokuk, IA: April 5, 2004.

TA-W-56,882; Carlisle Power Transmission, Red Wing Plant, Red Wing, MN: March 31, 2004.

TA-W-56,878; York Capacitor Corp., Including on-site leased workers from Kelly Service, Winooski, VT: March 29, 2004.

TA-W-56,857; L.A. T Sportswear, LLC, Roberta, GA: March 29, 2004.

TA-W-56,833; Thermotech Co., Hopkins, MN: March 24, 2004.

TA-W-56,737; Karibe, Inc., West Pittston, PA: March 9, 2004.

TA-W-56,735; GN Hearing Care Corp., d/b/a Beltone, Corp. Support Div., Chicago, IL: February 21, 2004.

TA-W-53,728; Alcan Packaging, including leased workers of HTSS, Allied Personnel Services, Aerotek, On Assignment (Lab Support), Barton Associates, Synerfac Technical Staffing, Remedy Intelligent Staffing, Accountemps, and Office Team, Bethlehem, PA: March 9, 2004.

TA-W-54,803; Silvered Electronic Mica Company, Inc., Willimantic, CT: April 12, 2005.

TA-W-56,770; Charleston Hosiery, Inc., Fort Payne, AL: March 7, 2004.

TA-W-56,767; Celestica USA, Inc., Salem—EMS, including leased workers of Adecco, Salem, NH: March 14, 2004.

TA-W-56,738; Radisys Corp., including leased workers of Employment Trends, Hillsboro, OR: March 10, 2004.

TA-W-56,696; Hewlett-Packard Co., Imaging & Printing Group-Technology Platforms Div., including on-site leased workers of Chimes, Inc., Corvallis, OR: March 7, 2004.

TA-W-56,911; Joyner Manufacturing, Louisburg, NC: March 30, 2004.

TA-W-56,713; Seagate Technology, LLC, Recording Head Operations, Bloomington, MN: March 8, 2004.

TA-W-56,784; Progressive Service Die Company, New Kingstown, PA: March 16, 2004.

TA-W-56,757; Celestica, including on-site leased workers from Adecco, Morrisville, NC: March 4, 2004.

TA-W-56,837; Calley & Currier Co., Patten, ME: March 21, 2004.

TA-W-56,734; Penn Fishing Tackle Manufacturing Co., Hegins Location, Hegins, PA: March 7, 2004.

TA-W-56,799; BASF Corp., South Brunswick Plant, Jamesburg, NJ: March 15, 2004.

TA-W-56,777 & A; Boston Scientific, Interventional Technologies Div. (IVT), including on-site leased workers of Barrett Business Services, Inc., Apple One Employment Services, Murrieta, CA and San Diego, CA: March 16, 2004.

TA-W-56,859; Ametek, Inc., Dixson Div., including leased workers of SOS Staffing Services, Grand Junction, CO: April 12, 2005.

TA-W-55,006; Westpoint Stevens, Longview Plant, Bed Products Div., Hickory, NC: June 1, 2003 through June 15, 2006.

TA-W-54,255; Imperial Schrade Corp., Ellenville, NY: February 2, 2003 through March 23, 2006.

TA-W-54,211; Intercraft Co., Inc., a div. of Burnes Group, Taylor, TX: February 1, 2003 through March 24, 2006.

TA-W-56,746; Tama Manufacturing Co., Inc., including on-site leased workers of Performance Personnel, Allentown, PA: May 4, 2004.

TA-W-56,759; Felix Schoeller Technical Papers, Inc., including on-site leased workers of Adecco, Pulaski, NY: May 7, 2004.

TA-W-56,796; Tyco Electronics, including on-site leased workers of Manpower, Sterling, IL: March 17, 2004.

TA-W-56,724 & A, B, C; American Pad and Paper, LLC, Holyoke, MA, AMPAD Distribution Center, Westfield, MA, AMPAD Distribution Center, Mattoon, IL, Morristown, TN: March 8, 2004.

TA-W-56,763; Quaker Fabric Corp. of Fall River, Plant A/B-700, a subsidiary of Quaker Fabric Corporation, Fall River, MA, A; Plant C-710 (Excluding Design Group), a subsidiary of Quaker Fabric Corp., Fall River, MA, C; Plant D-730, a subsidiary of Quaker Fabric Corp., Fall River, MA, D; Plant E-735, a subsidiary of Quaker Fabric Corp., Fall River, MA, F; Plant I-739, a subsidiary of Quaker Fabric Corp., Somerset, MA, G; Plant J-720, a subsidiary of Quaker Fabric Corp., Fall River, MA, H; Plant K-736, a subsidiary of Quaker Fabric Corp., Brockton, MA, I; Plant L-734, a subsidiary of Quaker Fabric Corp., Fall River, MA, J; Plant M-721, a subsidiary of Quaker Fabric Corp., Fall River, MA: March 9, 2004.

I hereby certify that the aforementioned determinations were issued during the month of April 2005. Copies of these determinations are available for inspection in Room C-5311, U.S. Department of Labor, 200 Constitution Avenue, NW., Washington, DC 20210 during normal business hours or will be mailed to persons who write to the above address.

Dated: May 6, 2005.
Timothy Sullivan,
Director, Division of Trade Adjustment Assistance.

[FR Doc. E5-2404 Filed 5-13-05; 8:45 am]

BILLING CODE 4510-30-P